DEPARTMENT OF HEALTH AND HUMAN SERVICES

National Institutes of Health

Office of the Director, National Institutes of Health; Notice of Meeting

Pursuant to section 10(a) of the Federal Advisory Committee Act, as amended (5 U.S.C. Appendix 2), notice is hereby given of a meeting of the Office of AIDS Research Advisory Council.

The meeting will be open to the public, with attendance limited to space available. Individuals who plan to attend and need special assistance, such as a sign language interpretation of other reasonable accommations, should notify the Contact Person listed below in advance of the meeting.

Name of Committee: Office of AIDS Research Advisory Council.

Date: April 17, 2002.

Time: 2 p.m. to Adjournment.

Agenda: NIH Plan for HIV-Related Research; FY 2004 NIH Plan Area of Emphasis; and general OARAC Discussions.

Place: 9000 Rockville Pike, Building 31C, Conference Room 6, Bethesda, MD 20892. (Telephone Conference Call).

Contact Person: Veronica Leftwich, Program Analyst, Office of AIDS Research, National Institutes of Health, Building 2, Room 4W11, Bethesda, MD 20892. (301) 435-7698.

This notice is being published less than 15 days prior to the meeting due to the timing limitations imposed by the review and funding cycle.

Information is also available on the institute's/Center's home page: www.nih.gov/od/oar/index.htm, where an agenda and any additional information for the meeting will be posted when available.

(Catalogue of Federal Domestic Assistance Program Nos. 93.14, Intramural Research Training Award; 93.187, Undergraduates Scholarship Program for Individuals from Disadvantaged Backgrounds; 93.22, Clinical Research Loan Repayment Program for Individuals from Disadvantaged Backgrounds; 93.232, Loan Repayment Program for Research Generally; 93.39, Academic Research Enhancement Awards; 93.936, NIH Acquired Immunodeficiency Syndrome Research Loan Repayment Program, National Institutes of Health, HHS)

Dated: April 9, 2002.
LaVerne Y. Stringfied,
Directed, Office of Federal Advisory Committee Policy.

[FR Doc. 02-9430 Filed 4-17-02; 8:45 am]

BILLING CODE 4140-01-M